ENVIRONMENTAL PROTECTION AGENCY

[FRL-7633-6]

Development Plan for the Causal Analysis/Diagnosis Decision Information System (CADDIS)

AGENCY: Environmental Protection Agency.

ACTION: Notice of availability.

SUMMARY: This notice announces the availability of a final report titled, Development Plan for the Causal Analysis/Diagnosis Decision Information System (CADDIS) (EPA/600/R-03/074, January 2004), which was prepared by the U.S. Environmental Protection Agency's (EPA) National Center for Environmental Assessment (NCEA) of the Office of Research and Development (ORD).

ADDRESSES: The document will be made available electronically through the NCEA Web site (www.epa.gov/ncea). A limited number of paper copies will be available from the EPA's National Service Center for Environmental Publications (NSCEP), P.O. Box 42419, Cincinnati, OH 45242; telephone: 1-800-490-9198 or 513-489-8190; facsimile: 513-489-8695. Please provide your name, your mailing address, the title and the EPA number of the requested publication.

FOR FURTHER INFORMATION CONTACT: The Technical Information Staff, National Center for Environmental Assessment/Washington Office (8623D), U.S. Environmental Protection Agency, 1200 Pennsylvania Avenue, NW., Washington, DC 20460. Telephone: 202-564-3261; fax: 202-565-0050; e-mail: nceadc.comment@epa.gov.

SUPPLEMENTARY INFORMATION: This document describes a strategy for developing the Causal Analysis/Diagnosis Decision Information System (CADDIS). CADDIS is envisioned as a decision support system that will help investigators in EPA Regions, states, and tribes find, access, organize, and share information useful for causal evaluations in aquatic systems. It will include supporting case studies and analysis tools, and it will provide access to databases that contain information useful for causal evaluations. The system will be developed incrementally and iteratively, and frequent user input and feedback will be essential to the system's success.

Dated: February 25, 2004.
Peter W. Preuss,
Director, National Center for Environmental Assessment.

[FR Doc. 04-5370 Filed 3-9-04; 8:45 am]

BILLING CODE 6560-50-P